DEPARTMENT OF TRANSPORTATION

Federal Transit Administration

Notice of Meeting of the Transit Advisory Committee for Safety (TRACS)

AGENCY: Federal Transit Administration, DOT.

ACTION: Notice of public meeting.

SUMMARY: This notice announces a meeting of the Transit Advisory Committee for Safety (TRACS).

DATES: The meeting will be held on September 9, 2019, from 9:00 a.m. to 4:30 p.m., and September 10, 2019, from 9:00 a.m. to 2:00 p.m., Eastern Daylight Time (EDT).

Requests to attend the meeting must be received by September 4, 2019. Less than the requisite fifteen-day notice is given due to technical issues related to submission of this Notice.

Requests for accommodations to a disability must be received by August 30, 2019. Requests to speak during the meeting must submit a written copy of their remarks to DOT by September 4, 2019.

Requests to submit written materials to be reviewed during the meeting must be received no later than September 4, 2019.

ADDRESSES: The meeting will be held at the National Highway Institute (NHI), 1310 North Courthouse Road, Arlington, Virginia 22201. Any committee related requests should be sent by email to TRACS@dot.gov. A copy of the meeting minutes will be available on the TRACS web page at https://www.transit.dot.gov/regulations-and-guidance/safety/transit-advisory-committee-safety-tracs. A final agenda will be posted on the TRACS web page at https://www.transit.dot.gov/regulations-and-guidance/safety/transit-advisory-committee-safety-tracs one week in advance of the meeting.

FOR FURTHER INFORMATION CONTACT: Henrika Buchanan, TRACS Designated Federal Officer, Associate Administrator, FTA Office of Transit Safety and Oversight, (202) 366-1783, Henrika.Buchanan@dot.gov; or Kara Waldrup, Program Analyst, FTA Office of Transit Safety and Oversight, (202) 366-7273, Kara.Waldrup@dot.gov; or TRACS@dot.gov.

SUPPLEMENTARY INFORMATION:

I. Background

The TRACS was created by the Secretary of Transportation in accordance with the Federal Advisory Committee Act (FACA) (Pub. L. 92-463, 5 U.S.C. App. 2) to provide information, advice, and recommendations to the Secretary and FTA Administrator on matters relating to the safety of public transportation systems.

II. Agenda

• Welcome Remarks/Introductions

• Facility Use/Safety Briefing

• Review of TRACS Tasks and Work Plan

• Safety Focus Area Presentations

• Safety Focus Area—Small Group Discussions

• Safety Focus Area—Large Group Discussion

• Future TRACS Activities

• Public Comments

• Summary of Deliverables/Concluding Remarks

III. Public Participation

The meeting will be open to the public on a first-come, first served basis, as space is limited. Members of the public who wish to attend in-person are asked to register via email by submitting their name and affiliation to the email address listed in the ADDRESSES section. The U.S. Department of Transportation is committed to providing equal access to this meeting for all participants. If you need alternative formats or services because of a disability, such as sign language, interpretation, or other ancillary aids, please contact the person listed in the ADDRESSES section.

There will be a total of 60 minutes allotted for oral comments from members of the public at the meeting. To accommodate as many speakers as possible, the time for each commenter may be limited. Individuals wishing to reserve speaking time during the meeting must submit a request at the time of registration, to include the individual's name, address, and organizational affiliation to the person listed in the ADDRESSES section.

Written comments for consideration by TRACS during the meeting must be submitted no later than the deadline listed in the DATES section, to ensure transmission to TRACS members prior to the meeting. Comments received after that date will be distributed to the members but may not be reviewed prior to the meeting.

Issued in Washington, DC.
K. Jane Williams,
Acting Administrator.

[FR Doc. 2019-18422 Filed 8-26-19; 8:45 am]

BILLING CODE P